COMMODITY FUTURES TRADING COMMISSION

Market Risk Advisory Committee; Meeting

AGENCY: Commodity Futures Trading Commission.

ACTION: Notice of meeting.

SUMMARY: The Commodity Futures Trading Commission (CFTC) announces that on July 10, 2023, from 10 a.m. to 1 p.m. (Eastern Daylight Time), the Market Risk Advisory Committee (MRAC or Committee) will hold a public meeting via teleconference. At this meeting, the MRAC will discuss current topics and developments in the areas of central counterparty risk and governance, interest rate benchmark reform, market structure, climate-related risk, and innovative and emerging technologies affecting the derivatives and related financial markets.

DATES: The meeting will be held on July 10, 2023, from 1 a.m. to 1 p.m. (Eastern Daylight Time). Please note that the meeting may end early if the MRAC has completed its business. Members of the public who wish to submit written statements in connection with the meeting should submit them by July 17, 2023.

ADDRESSES: The meeting will be held via teleconference. You may submit public comments, identified by “Market Risk Advisory Committee,” through the CFTC website at https://comments.cftc.gov. Follow the instructions for submitting comments through the Comments Online process on the website. If you are unable to submit comments online, contact Bruce Fekrat, Designated Federal Officer, or Marilee Dahlman, Alternate Designated Federal Officer, via the contact information listed below to discuss alternate means of submitting your comments. Any statements submitted in connection with the committee meeting will be made available to the public, including publication on the CFTC website, https://www.cftc.gov.

FOR FURTHER INFORMATION CONTACT: Bruce Fekrat, MRAC Designated Federal Officer, Commodity Futures Trading Commission, Three Lafayette Centre, 1155 21st Street NW, Washington, DC 20581; (202) 418-5690; or Marilee Dahlman, MRAC Alternate Designated Federal Officer, Commodity Futures Trading Commission, Three Lafayette Centre, 1155 21st Street NW, Washington, DC 20581; (202) 247-6544.

SUPPLEMENTARY INFORMATION: The meeting will be open to the public. Members of the public may listen to the meeting by telephone by calling a domestic or international number to connect to a live, listen-only audio feed. Call-in participants should be prepared to provide their first name, last name, and affiliation.

Domestic Toll Free Numbers: 833 435 1820 or 833 568 8864

Domestic Toll Numbers: (for higher quality, dial a number based on your current location): +1 669 254 5252 US (San Jose), +1 646 828 7666 US (New York), +1 646 964 1167 US (US Spanish Line), +1 551 285 1373 US, +1 669 216 1590 US (San Jose), +1 415 449 4000 US (US Spanish Line)

International Toll and Toll Free: Will be posted on the CFTC's website, https://www.cftc.gov, on the page for the meeting, under Related Links.

Call-In Webinar ID: 160 436 4782

Pass Code/Pin Code: 083791

The meeting will also be open to the public via webcast on the https://www.cftc.gov website. The meeting agenda may change to accommodate other MRAC priorities. For agenda updates, please visit the MRAC committee site at: https://www.cftc.gov/About/CFTCCommittees/MarketRiskAdvisoryCommittee/mrac_meetings.html.

After the meeting, a transcript of the meeting will be published through a link on the CFTC's website, http://www.cftc.gov. Persons requiring special accommodations to attend the meeting because of a disability should notify the contact person above.

(Authority: 5 U.S.C. 1009(a)(2).)

Dated: June 16, 2023.
Robert Sidman,
Deputy Secretary of the Commission.

[FR Doc. 2023-13270 Filed 6-21-23; 8:45 am]

BILLING CODE 6351-01-P